DEPARTMENT OF JUSTICE

[OMB Number 1140-0020]

Agency Information Collection Activities; Firearms Transaction Record/Registro de Transacción de Armas de Fuego; Correction

AGENCY: Bureau of Alcohol, Tobacco, Firearms and Explosives, Department of Justice.

ACTION: Notice; correction.

SUMMARY: The Department of Justice (DOJ), Bureau of Alcohol, Tobacco, Firearms and Explosives (ATF), published a document in the Federal Register of May 26, 2023, concerning request for comments on the Firearms Transaction Record, ATF Form 4473 (5300.9).

FOR FURTHER INFORMATION CONTACT: Jason Gluck, telephone: 202-648-7190.

SUPPLEMENTARY INFORMATION:

Correction: The publication is a duplicate and the correct 30-day notice was published on May 17, 2023.

DATES: Comments are encouraged and will be accepted for 30 days until June 16, 2023. Interested and affected parties should respond to the 30-day notice published on May 17, 2023.

Dated: June 12, 2023.
John Carlson,
Department Clearance Officer for PRA, U.S. Department of Justice.

[FR Doc. 2023-12935 Filed 6-15-23; 8:45 am]

BILLING CODE 4410-FY-P